DEPARTMENT OF DEFENSE

Department of the Navy

32 CFR Part 736

[Docket ID: USN-2018-HQ-0002]

RIN 0703-AB05

Disposition of Property

AGENCY: Department of the Navy, Department of Defense.

ACTION: Final rule.

SUMMARY: This final rule removes Department of the Navy regulations governing disposition of property, including surplus real property, warships, other surface vessels, personal property, and strategic materials. The disposal of surplus property is governed by standing authorities found within the U.S. Code. Further, disposal of surplus property is also governed by Department of Defense regulations entitled “Defense Material Disposition.” Therefore, this rule can be removed from the CFR.

DATES: This rule is effective on June 22, 2018.

FOR FURTHER INFORMATION CONTACT: James Omans at 703-614-5848.

SUPPLEMENTARY INFORMATION: It has been determined that publication of this CFR part removal for public comment is impracticable, unnecessary, and contrary to public interest since it is based on removing a duplicative CFR part.

Removal of this part does not add or reduce the burden or cost on the public in any way. The cost of disposal of surplus property will remain the same with removal of the part.

This rule is not significant under Executive Order (E.O.) 12866, “Regulatory Planning and Review,” therefore, E.O. 13771, “Reducing Regulation and Controlling Regulatory Costs” does not apply.

List of Subjects in 32 CFR Part 736

Surplus Government property.

PART 736—[REMOVED]

Accordingly, by the authority of 5 U.S.C. 301, 32 CFR part 736 is removed.

Dated: June 12, 2018.
E.K. Baldini,
Lieutenant Commander, Judge Advocate General's Corps, U.S. Navy, Federal Register Liaison Officer.

[FR Doc. 2018-13409 Filed 6-21-18; 8:45 am]

BILLING CODE 3810-FF-P